DEPARTMENT OF HEALTH AND HUMAN SERVICES

Centers for Medicare & Medicaid Services

[CMS-1305-N2]

Medicare Program; Request for Nominations to the Advisory Panel on Ambulatory Payment Classification Groups

AGENCY: Centers for Medicare & Medicaid Services (CMS), Department of Health and Human Services (DHHS).

ACTION: Notice.

SUMMARY: This notice invites nominations of members to the Advisory Panel on Ambulatory Payment Classification (APC) Groups (the Panel). There will be two vacancies on the Panel as of October 1, 2007. Consequently, this solicitation is for two new members.

The purpose of the Panel is to review the APC groups and their associated weights and to advise the Secretary, DHHS, (the Secretary) and the Administrator, CMS, (the Administrator) concerning the clinical integrity of the APC groups and their associated weights. We consider the Panel's advice as CMS prepares its annual updates of the hospital Outpatient Prospective Payment System (OPPS).

The Secretary rechartered the Panel in 2006 for a 2-year period effective through November 21, 2008.

Nominations: We will consider nominations if they are received no later than 5 p.m. on May 30, 2007. Please mail or hand deliver nominations to the following address: CMS; Attn: Shirl Ackerman-Ross, Designated Federal Official (DFO), Advisory Panel on APC Groups; Center for Medicare Management, Hospital & Ambulatory Policy Group, Division of Outpatient Care; 7500 Security Boulevard, Mail Stop C4-05-17; Baltimore, MD 21244-1850.

Web site: For additional information on the APC Panel and updates to the Panel's activities, search our Web site at the following: http://www.cms.hhs.gov/FACA/05_AdvisoryPanelonAmbulatory PaymentClassificationGroups.asp#TopOfPage.

E-Mail Address: The E-mail address for the Panel is as follows: CMS_APCPanel@cms.hhs.gov. News media representatives must contact our Public Affairs Office at (202) 690-6145.

Advisory Committees' Information Lines: The CMS Advisory Committees' Information Line is 1-877-449-5659 (toll free) and (410) 786-9379 (local).

SUPPLEMENTARY INFORMATION:

I. Background

The Secretary is required by section 1833(t)(9)(A) of the Social Security Act (the Act), [as amended by section 201(h) of the Medicare, Medicaid, and SCHIP Balanced Budget Refinement Act of 1999 (BBRA) (Pub. L. 106-113), and redesignated by section 202(a)(2) of the BBRA] to consult with an expert outside advisory panel regarding the clinical integrity of the APC groups and weights that are components of the hospital OPPS.

The Charter requires that the Panel meet up to three times annually. We consider the technical advice provided by the Panel as we prepare the proposed and final rules to update the OPPS for the next calendar year.

The Panel shall consist of a chair and up to 15 members who are full-time employees of hospitals, hospital systems, or other Medicare providers that are subject to the OPPS. (For purposes of the Panel, consultants or independent contractors are not considered to be full-time employees in these organizations.)

The Secretary or Administrator selects the Panel membership based upon either self-nominations or nominations submitted by providers or interested organizations.

The current Panel members are as follows: (The asterisk [*] indicates Panel members whose terms begin on March 1, 2007, and the double asterisks [**] indicate Panel members whose terms begin on April 1, 2007. Panel members with three asterisks [***] are those members whose terms expire on or before September 30, 2007.)

• E.L. Hambrick, M.D., J.D., Chair, a CMS Medical Officer.

• Gloryanne Bryant, B.S., RHIA, RHIT, CCS.

• Hazel Kimmel, R.N., CCS, CPC.

• Sandra J. Metzler, M.B.A., RHIA.***

• Thomas M. Munger, M.D.

• Beverly Khnie Philip, M.D.**

• Louis Potters, M.D.

• Russ Ranallo, M.S., B.S.*

• James V. Rawson, M.D.

• Michael A. Ross, M.D.**

• Lou Ann Schraffenberger, M.B.A., RHIA.

• Judie S. Snipes, R.N., M.B.A., CHE.

• Patricia Spencer-Cisek, M.S., APRN-BC, AOCN®.*

• Timothy Gene Tyler, Pharm.D.***

• Kim Allen Williams, M.D.

• Robert M. Zwolak, M.D.

Panel members serve without compensation, according to an advance written agreement; however, CMS reimburses travel, meals, lodging, and related expenses for the meeting in accordance with standard Government travel regulations.

CMS has a special interest in attempting to ensure—while taking into account the nominee pool—that the Panel is diverse in all respects to the following: geography; rural or urban practice; race, ethnicity, sex, and disability; medical or technical specialty; and type of hospital, hospital health system, or other Medicare provider.

The Secretary, or his designee, appoints new members to the Panel from among those candidates determined to have the required expertise. New appointments are made in a manner that ensures a balanced membership.

II. Criteria for Nominees

All members must have technical expertise to enable them to participate fully in the work of the Panel. This expertise encompasses hospital payment systems; hospital medical-care delivery systems; provider billing systems; APC groups; Physicians' Current Procedural Terminology and alpha-numeric Healthcare Common Procedure Coding System codes; and the use and payment of drugs and medical devices in the outpatient setting, as well as other forms of relevant expertise.

It is not necessary for a nominee to possess expertise in all of the areas listed, but each must have a minimum of 5 years experience and currently have full-time employment in his or her area of expertise. Members of the Panel serve terms up to 4 years, based on the needs of the Panel and contingent upon the rechartering of the Panel.

Any interested person or organization may nominate one or more qualified individuals. Self-nominations will also be accepted. Each nomination must include the following:

• Letter of Nomination,

• Curriculum Vita of the nominee, and

• Written statement from the nominee that the nominee is willing to serve on the Panel under the conditions described in this notice and further specified in the Charter.

III. Copies of the Charter

To obtain a copy of the Panel's Charter, submit a written request to the DFO at the address provided or by e-mail at CMS_APCPanel@cms.hhs.gov, or call her at 410-786-4474. Copies of the Charter are also available on the Internet at the following: http://www.cms.hhs.gov/FACA/05_AdvisoryPanelonAmbulatoryPaymentClassificationGroups.asp#TopOfPage.

Authority: Section 1833(t)(9)(A) of the Act (42 U.S.C. 1395l(t)(9)(A)). The Panel is governed by the provisions of Pub. L. 92-463, as amended (5 U.S.C. Appendix 2).

(Catalog of Federal Domestic Assistance Program No. 93.773, Medicare—Hospital Insurance; and Program No. 93.774, Medicare—Supplementary Medical Insurance Program)

Dated: March 8, 2007.
Leslie V. Norwalk,
Acting Administrator, Centers for Medicare & Medicaid Services.

[FR Doc. E7-5305 Filed 3-22-07; 8:45 am]

BILLING CODE 4120-01-P